INTERNATIONAL TRADE COMMISSION

[Investigations Nos. 731-TA-919-920 (Preliminary)]

Certain Welded Large Diameter Line Pipe from Japan and Mexico

Determinations

On the basis of the record ¹ developed in the subject investigations, the United States International Trade Commission determines, pursuant to section 733(a) of the Tariff Act of 1930 (19 U.S.C. 1673b(a)), that there is a reasonable indication that an industry in the United States is materially injured by reason of imports from Japan and Mexico of certain welded large diameter line pipe,² that are alleged to be sold in the United States at less than fair value (LTFV).

¹ The record is defined in sec. 207.2(f) of the Commission's Rules of Practice and Procedure (19 CFR 207.2(f)).

² For purposes of these investigations, certain welded large diameter line pipe is welded carbon and alloy steel line pipe, of circular cross section and with an outside diameter greater than 406.4 mm (16 inches), whether or not stenciled. This product is normally produced according to American Petroleum Institute specifications, including Grades A25, A, B, and X grades ranging from X42 to X80, but can also be produced to other specifications. The product is provided for in subheadings 7305.11.10, 7305.11.50, 7305.12.10, 7305.12.50, 7305.19.10, and 7305.19.50 of the Harmonized Tariff Schedule of the United States.

Commencement of Final Phase Investigations

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigations under section 733(b) of the Act, or, if the preliminary determinations are negative, upon notice of affirmative final determinations in those investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On January 10, 2001, a petition was filed with the Commission and the Department of Commerce by Berg Steel Pipe Corp., Panama City, FL; American Steel Pipe Division of American Cast Iron Pipe Co., Birmingham, AL; and Stupp Corp., Baton Rouge, LA; alleging that an industry in the United States is materially injured by reason of LTFV imports of certain welded large diameter line pipe from Japan and Mexico. Accordingly, effective January 10, 2001, the Commission instituted antidumping duty investigations Nos. 731-TA-919-920 (Preliminary).

Notice of the institution of the Commission's investigations and of a public conference to be held in connection therewith was given by posting copies of the notice in the Office of the Secretary, U.S. International Trade Commission, Washington, DC, and by publishing the notice in the Federal Register of January 18, 2001 (66 FR 4860). The conference was held in Washington, DC, on January 31, 2001, and all persons who requested the opportunity were permitted to appear in person or by counsel.

The Commission transmitted its determinations in these investigations to the Secretary of Commerce on February 26, 2001. The views of the Commission are contained in USITC Publication 3400 (March 2001), entitled Certain Welded Large Diameter Line Pipe from Japan and Mexico: Investigations Nos. 731-TA-919-920 (Preliminary).

By order of the Commission.
Issued: February 26, 2001
Donna R. Koehnke,
Secretary.

[FR Doc. 01-5304 Filed 3-5-01; 8:45 am]

BILLING CODE 7020-02-U